DEPARTMENT OF ENERGY

Federal Energy Regulatory Commission

Combined Notice of Filings #1

Take notice that the Commission received the following exempt wholesale generator filings:

Docket Numbers: EG21-2-000.

Applicants: HDSI, LLC.

Description: Notice of Self-Certification of Exempt Wholesale Generator Status of HDSI, LLC.

Filed Date: 10/6/20.

Accession Number: 20201006-5060.

Comments Due: 5 p.m. ET 10/27/20.

Take notice that the Commission received the following electric rate filings:

Docket Numbers: ER10-2302-008; ER19-1342-001; ER19-1343-001; ER19-2674-001.

Applicants: Public Service Company of New Mexico, NMRD Data Center II, LLC, NMRD Data Center III, LLC, New Mexico PPA Corporation.

Description: Notice of Change in Status to Reflect Participation in Energy Imbalance Market, et al. of the PNM Entities.

Filed Date: 10/5/20.

Accession Number: 20201005-5138.

Comments Due: 5 p.m. ET 10/26/20.

Docket Numbers: ER10-2719-037.

Applicants: East Coast Power Linden Holding, L.L.C.

Description: Notice of Non-Material Change in Status of East Coast Power Linden Holding, L.L.C.

Filed Date: 10/5/20.

Accession Number: 20201005-5176.

Comments Due: 5 p.m. ET 10/26/20.

Docket Numbers: ER19-1935-004.

Applicants: UNS Electric, Inc.

Description: Compliance filing: Errata to Order No. 845 Compliance Filing to be effective 5/22/2019.

Filed Date: 10/6/20.

Accession Number: 20201006-5048.

Comments Due: 5 p.m. ET 10/27/20.

Docket Numbers: ER21-29-000.

Applicants: Duke Energy Florida, LLC.

Description: Tariff Cancellation: Notice of Termination DEF-Duette Solar E&P Agreement to be effective 12/5/2020.

Filed Date: 10/5/20.

Accession Number: 20201005-5139.

Comments Due: 5 p.m. ET 10/26/20.

Docket Numbers: ER21-30-000.

Applicants: Pattern Energy Wind Development LLC.

Description: Request for Prospective One-Time, Limited Waivers of Pattern Energy Wind Development LLC.

Filed Date: 10/5/20.

Accession Number: 20201005-5140.

Comments Due: 5 p.m. ET 10/26/20.

Docket Numbers: ER21-31-000.

Applicants: PJM Interconnection, L.L.C.

Description: § 205(d) Rate Filing: Notice of Cancellation of WMPA SA No. 3915 to be effective 8/13/2020.

Filed Date: 10/5/20.

Accession Number: 20201005-5148.

Comments Due: 5 p.m. ET 10/26/20.

Docket Numbers: ER21-32-000.

Applicants: Tampa Electric Company.

Description: Notice of Cancellation of Rate Schedule No. 78 of Tampa Electric Company.

Filed Date: 10/5/20.

Accession Number: 20201005-5157.

Comments Due: 5 p.m. ET 10/26/20.

Docket Numbers: ER21-33-000.

Applicants: PJM Interconnection, L.L.C.

Description: § 205(d) Rate Filing: Original ISA, Service Agreement No. 5799; Queue No. AF1-260 and Cancellation to be effective 9/8/2020.

Filed Date: 10/6/20.

Accession Number: 20201006-5042.

Comments Due: 5 p.m. ET 10/27/20.

Docket Numbers: ER21-34-000.

Applicants: PJM Interconnection, L.L.C.

Description: § 205(d) Rate Filing: Original WMPA, Service Agreement No. 5812; Queue No. AF1-166 to be effective 9/9/2020.

Filed Date: 10/6/20.

Accession Number: 20201006-5082.

Comments Due: 5 p.m. ET 10/27/20.

Take notice that the Commission received the following qualifying facility filings:

Docket Numbers: QF21-11-000.

Applicants: SW Cogen Project, LLC.

Description: Form 556 of SW Cogen Project, LLC.

Filed Date: 10/5/20.

Accession Number: 20201005-5153.

Comments Due: None-Applicable.

The filings are accessible in the Commission's eLibrary system (https://elibrary.ferc.gov/idmws/search/fercgensearch.asp) by querying the docket number

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 6, 2020.
Nathaniel J. Davis, Sr.,
Deputy Secretary.

[FR Doc. 2020-22661 Filed 10-13-20; 8:45 am]

BILLING CODE 6717-01-P